DEPARTMENT OF THE INTERIOR

National Park Service

[NPS-SERO-EVER-12017; PPSESEROC3, PMP00UP05.YP0000]

Draft Environmental Impact Statement for General Management Plan, Everglades National Park, Florida

AGENCY: National Park Service, Interior.

ACTION: Notice of Availability.

SUMMARY: Pursuant to Section 102(a)(c) of the National Environmental Policy Act of 1969, 42 U.S.C. 4332(2)(C), the National Park Service (NPS) announces the availability of the Draft Environmental Impact Statement (DEIS) for the General Management Plan (GMP) and East Everglades Wilderness Study (EEWS) for Everglades National Park (park). After it is finalized, the GMP/EEWS will guide the management of the park over the next 20+ years.

The last comprehensive planning effort for the Park was completed in 1979. Patterns and types of visitor use have changed, the Comprehensive Everglades Restoration Plan was approved, and in 1989 the East Everglades Addition of approximately 109,600 acres was added to the park to protect and restore the Northeast Shark River Slough. Recent studies have enhanced the understanding of resources, resource threats, and visitor use in the Park. The GMP will provide updated management direction for the entire park. The EEWS provides a forum for evaluating lands within the East Everglades Addition for possible recommendation to Congress for inclusion in the National Wilderness Preservation System.

DATES: The NPS will accept comments from the public on the DEIS for 60 days from the date the Environmental Protection Agency publishes the Notice of Availability in the Federal Register. The date, time, and location of public meetings will be announced through the NPS Planning, Environment, and Public Comment (PEPC) Web site http://parkplanning.nps.gov, the Everglades National Park Web site, and in media outlets in winter 2013.

ADDRESSES: The DEIS will be available for public review and comment online at http://parkplanning.nps.gov. CDs and a limited number of printed copies will be made available at Everglades National Park headquarters and various local libraries. You may request a copy by contacting Everglades National Park, 40001 State Road 93363, Homestead, FL 33034; 305-242-7700.

If you wish to comment, you may do so by any one of several methods. The preferred method is commenting via the Internet at http://parkplanning.nps.gov. An electronic public comment form is provided through this Web site. You may also mail comments to Superintendent, Everglades National Park, 40001 State Road 9336, Homestead, FL 33034-6733. Comments may also be hand-delivered to the Everglades National Park address provided above. Before including your address, phone number, email address, or other personal identifying information in your comment, you should be aware that your entire comment—including your personal identifying information—may be made publicly available at any time. While you can ask us in your comment to withhold your personal identifying information from public review, we cannot guarantee that we will be able to do so.

SUPPLEMENTARY INFORMATION: Public scoping for the GMP was initiated in 2003. The EEWS was added to the scope of the project in 2006. Public meetings, five newsletters, and internet updates have kept the public informed and involved throughout the planning process. The GMP EEWS will provide a framework for management, use, and development of the Everglades National Park for the next 20 or more years. The DEIS presents and analyzes four alternative ways of managing the Park—alternative 1 (no action/continue current management); the NPS preferred alternative; alternative 2; and alternative 4. (Alternative 3 was dismissed from detailed analysis).

Alternative 1 (no action/continue current management) provides a baseline for evaluating changes and impacts of the three action alternatives. No wilderness is proposed for the East Everglades Addition in alternative 1.

The NPS preferred alternative would support restoration of natural systems and enhanced protection of cultural resources, while providing improved opportunities for quality visitor experiences. It proposes about 80,100 acres for designation as wilderness within the East Everglades Addition, as well as about 9,900 acres for designation as potential wilderness.

Alternative 2 would strive to maintain and enhance visitor opportunities and protect natural systems while preserving many traditional routes and ways of visitor access. It proposes 39,500 acres for designation as wilderness within the East Everglades Addition. No potential wilderness is proposed under this alternative.

As noted above, alternative 3 was dismissed from detailed analysis.

Alternative 4 would provide a high level of support for protecting natural systems while improving opportunities for certain types of visitor activities. Alternative 4 would eliminate commercial airboat tours within the park. It proposes 42,700 acres for designation as wilderness within the East Everglades Addition and 59,400 acres for designation as potential wilderness.

All four alternatives would enhance Flamingo concessions services and facilities. The NPS preferred alternative, alternative 2, and alternative 4 would build the “Marjory Stoneman Douglas Visitor Center” at Everglades City, and each of these three alternatives would provide new and different visitor opportunities. The four alternatives are described in detail in chapter 2 of the DEIS and summarized in table 5 of that chapter. The key aspects of the four alternatives and the impacts of implementing them are described in the plan's summary, detailed in chapter 5, and summarized in table 6 (chapter 2).

FOR FURTHER INFORMATION CONTACT: Everglades National Park Supervisory Park Planner Fred Herling at the address and telephone number shown above, or via email at Fred_Herling@nps.gov.

The responsible official for this DEIS/GMP is the Regional Director, NPS Southeast Region, 100 Alabama Street SW., 1924 Building, Atlanta, Georgia 30303.

Dated: February 14, 2013.
Gordon Wissinger,
Acting Regional Director, Southeast Region.

[FR Doc. 2013-04342 Filed 2-25-13; 8:45 am]

BILLING CODE 4310-JD-P